DEPARTMENT OF LABOR

Employment and Training Administration

[TA-W-40,133 and TA-W-40,133A]

Eagle Knitting Mills, Inc. Shawano, WI; Eagle Knitting Mills, Inc. Kenosha, WI; Notice of Termination of Investigation

Pursuant to section 221 of the Trade Act of 1974, an investigation was initiated on September 28, 2001, in response to a worker petition at Eagle Knitting Mills, Inc., Shawano and Kenosha, Wisconsin.

A negative determination applicable to the petitioning group of workers was issued on May 14, 2001 (TA-W-39,070). The petition filed in the subject case is identical to that filed for the prior case. No new information is evident which would result in a reversal of the Department's previous determination. Consequently, further investigation in this case would serve no purpose; and the investigation has been terminated.

Signed at Washington, DC this 10th day of December 2001.
Edward A. Tomchick,
Director, Division of Trade Adjustment, Assistance.

[FR Doc. 01-31631 Filed 12-21-01; 8:45 am]

BILLING CODE 4510-30-M